DEPARTMENT OF DEFENSE

Office of Secretary

[DOD-2007-OS-0060]

Privacy Act of 1974; Systems of Records

AGENCY: Defense Finance and Accounting Service, Department of Defense.

ACTION: Notice to add a new system of records.

SUMMARY: The Defense Finance and Accounting Service (DFAS) is proposing to add a system of records notice to its inventory of record systems subject to the Privacy Act of 1974, (5 U.S.C. 552a), as amended.

DATES: This action will be effective without further notice on July 5, 2007 unless comments are received that would result in a contrary determination.

ADDRESSES: Send comments to the FOIA/PA Program Manager, Corporate Communications and Legislative Liaison, Defense Finance and Accounting Service-Denver, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on May 24, 2007, to the House Committee on Oversight and Government Reform, the Senate Committee on Governmental Affairs, and the Office of Management and Budget (OMB) pursuant to paragraph 4c of Appendix I to OMB Circular No. A-130, 'Federal Agency Responsibilities for Maintaining Records About Individuals,' dated December 12, 2000, 65 FR 239.

Dated: May 29, 2007.
C.R. Choate
Alternative OSD Federal Register Liaison Officer, Department of Defense.

T7208

System name:

General Accounting and Finance System—Defense Transaction Interface Module

System location:

Defense Information Systems Agency, Defense Enterprise Computing Center, Ogden, 7879 Wardleigh Road, Hill Air Force Base, Utah 84058-5997.

Defense Finance and Accounting Service—Denver, 6760 E. Irvington Place, Denver, Colorado 80279-8000.

Categories of individuals covered by the system:

Army, Navy, Air Force, Marine Corps active duty, Reserve and National Guard members; and DoD civilian employees paid by appropriated funds.

Categories of records in the system:

Name, Social Security Number (SSN), duty address, employing agency, military branch of service, and members' military status.

Authority for maintenance of the system:

5 U.S.C. 301, Departmental Regulations; 31 U.S.C. Sections 3511, 3512, 3513; and E.O. 9397 (SSN).

Purpose(s):

The system is in support of the DFAS accounting and finance disbursing systems. This system will receive obligations and expense data that will be used for the General Accounting and Finance System and the Centralized Disbursing System. As a management tool, it will determine budget execution status and generate statistical analysis as required by the Department of Defense (DoD).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the DoD compilation of systems of records notices apply to this system.

Policies and practices for storing, retrieving, accessing, retaining, and disposing of records in the system:

Storage:

Paper records are file folders and electronic storage media.

Retrievability:

Individual's name and Social Security Number (SSN).

Safeguards:

Access to records is limited to individuals who are properly screened and cleared on a need-to-know basis in the performance of their duties. Passwords and User IDs are used to control access to the system data, and procedures are in place to deter and detect browsing and unauthorized access.

Retention and disposal:

Records may be temporary in nature and deleted when actions are completed, superseded, obsolete, or no longer needed. Other records may be cut off at the end of the fiscal or payroll year, or when a case is closed. Records are then destroyed 6 years and 3 months after cutoff or 10 years after the case is closed. Records are destroyed by degaussing, burning or shredding.

System manager(s) and address:

Systems Manager, General Accounting and Finance System—Defense Transaction Interface Module, Information and Technology Directorate, Defense Finance and Accounting Service—Denver, 6760 E. Irvington Place, Denver, CO 80279-8000.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, and DoD Components such as, Army, Navy, Air Force, Marine Corps, Reserves and National Guard.

Exemptions claimed for the system:

None.

[FR Doc. E7-10686 Filed 6-1-07; 8:45 am]

BILLING CODE 5001-06-P